DEPARTMENT OF THE INTERIOR

Bureau of Ocean Energy Management

30 CFR Parts 550, 556, and 590

[Docket No. BOEM-2023-0027]

RIN 1010-AE14

Risk Management and Financial Assurance for OCS Lease and Grant Obligations; Correction

AGENCY: Bureau of Ocean Energy Management, Interior.

ACTION: Final rule; correction.

SUMMARY: This document makes a technical correction in the preamble to the final rule titled, Risk Management and Financial Assurance for OCS Lease and Grant Obligations, which the Department of the Interior published in the Federal Register on April 24, 2024. This correction clarifies that the effective date of the rule is June 29, 2024.

DATES: As of May 31, 2024, the rule published on April 24, 2024 (89 FR 31544), effective June 24, 2024, is corrected to be effective June 29, 2024. This correction is effective June 29, 2024.

FOR FURTHER INFORMATION CONTACT: Kelley Spence, Office of Regulations, BOEM, 45600 Woodland Road, Sterling, Virginia 20166, at email address Kelley.Spence@boem.gov or at telephone number (984) 298-7345; and Karen Thundiyil, Chief, Office of Regulations, BOEM, 1849 C Street NW, Washington, DC 20240, at email address Karen.Thundiyil@boem.gov or at telephone number (202) 742-0970. Individuals in the United States who are deaf, deafblind, hard of hearing, or have a speech disability may dial 711 (TTY, TDD, or TeleBraille) to access telecommunications relay services for contacting the contacts listed in this section. These services are available 24 hours a day, 7 days a week, to leave a message or question with the above individual. You will receive a reply during normal business hours. Individuals outside the United States should use the relay services offered within their country to make international calls to the point-of-contact in the United States.

SUPPLEMENTARY INFORMATION: The final rule published April 24, 2024, at 89 FR 31544, contained an incorrect effective date. It stated the effective date is June 24, 2024. This document corrects the effective date to June 29, 2024. This document also makes a correction to § 556.901(h).

Corrections

In FR Doc. 2024-08309 appearing on page 31544 in the Federal Register of Wednesday, April 24, 2024, the following corrections are made:

Preamble

1. On page 31544, in the first column, in the DATES section, the first sentence is corrected to read “This final rule is effective on June 29, 2024.”

Regulations

§ 556.901 [Corrected]

2. On page 31595, in the first column, in § 556.901, paragraph (h) introductory text is corrected to read as follows:

“(h) During the first 3 years from June 29, 2024, you may, upon receipt of a demand letter for supplemental financial assurance under this section, request that the Regional Director allow you to provide, in three equal installments payable according to the schedule provided under this paragraph (h), the full amount of supplemental financial assurance required.”

Elizabeth Klein,
Director, Bureau of Ocean Energy Management.

[FR Doc. 2024-11914 Filed 5-30-24; 8:45 am]

BILLING CODE 4310-MR-P